DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Recovery Measurement Pilot Study—NEW

The Substance Abuse and Mental Health Services Administration (SAMHSA), Center for Behavioral Health Statistics and Quality (CBHSQ) is proposing a pilot test of its Recovery Measure. As part of its strategic initiative to support recovery from mental health and substance use disorders, SAMHSA has been working to develop a standard measure of recovery that can be used as part of its grantee performance reporting activities.

This project will assess the usability and psychometric properties of the proposed tool among a voluntary group of 2-3 SAMHSA grantees. SAMHSA has developed a short 20-item instrument that has been designed to capture all four of SAMHSA's proposed dimensions of recovery—health, home, purpose, and community. This measure is comprised of questions from the World Health Organization's Quality of Life tool (WHO QOL 8) and SAMHSA's existing set of Government Performance and Results Act (GPRA) measures. Data will be collected at two time points—at client intake and at six-months post-intake. These are two points in time during which SAMHSA grantees routinely collect data on the individuals participating in their programs.

Approval of these items by the Office of Management and Budget (OMB) will allow SAMHSA to further refine the Recovery Measure developed for this project. It will also help determine whether the Recovery Measure is added to SAMHSA's set of required performance measurement tools designed to aid in tracking recovery among clients receiving services from the Agency's funded programs.

Based on current funding and planned fiscal year 2014 notice of funding announcements the following SAMHSA grantee programs will be selected to participate in this pilot study: Behavioral Health Treatment Court Collaborative (BHTCC); Cooperative Agreements to Benefit Homeless Individuals (CABHI); and the Primary and Behavioral Health Care Integration (PBHCI). Data collected will be used by individuals at three different levels: the SAMHSA administrator and staff, the Center administrators and government project officers, and grantees.

The total estimated respondent burden is 60 hours for the period from September 2014 through March 2015. Table 1 below indicates the annualized respondent burden estimate.

Table 1—Annualized Respondent Burden Hours, 2014-2015
Estimated annual response burden: Type of grantees | Estimated annual response burden: Number of respondents | Estimated annual response burden: Responses per respondent | Estimated annual response burden: Average hours per response | Estimated annual response burden: Total burden hours
Intake:
Behavioral Health Treatment Court Collaborative (BHTCC) | 100 | 1 | 0.10 | 10
Cooperative Agreements to Benefit Homeless Individuals (CABHI) | 50 | 1 | 0.10 | 5
Primary and Behavioral Health Care Integration (PBHCI) | 150 | 1 | 0.10 | 15
6-Month Follow-up:
Behavioral Health Treatment Court Collaborative (BHTCC) | 100 | 1 | 0.10 | 10
Cooperative Agreements to Benefit Homeless Individuals (CABHI) | 50 | 1 | 0.10 | 5
Primary and Behavioral Health Care Integration (PBHCI) | 150 | 1 | 0.10 | 15
Total | 300 |  |  | 60

Send comments to Summer King, SAMHSA Reports Clearance Officer, Room 2-1057, One Choke Cherry Road, Rockville, MD 20857 OR email her a copy at summer.king@samhsa.hhs.gov. Written comments should be received by February 24, 2014.

Summer King,
Statistician.

[FR Doc. 2013-30801 Filed 12-24-13; 8:45 am]

BILLING CODE 4162-20-P